DEPARTMENT OF HEALTH AND HUMAN SERVICES

Centers for Disease Control and Prevention

[30-Day-11-11AA]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Central America Water and Sanitation Program Sustainability Evaluation and Qualitative Interview—NEW—National Center for Environmental Health (NCEH), Centers for Disease Control and Prevention (CDC).

Background and Brief Description

There is little information available on the longevity of infrastructure and hygiene behavior change after water, sanitation and hygiene education (WASH) interventions are provided. Sustainability of these WASH interventions is a crucial factor in maintaining the health and well-being of a community.

In the Latin American and Caribbean region, 20% of the rural population in 2008 had no access to an improved drinking water source. Forty-five percent of this population also has unimproved sanitation facilities with 20% of that population not using any type of sanitation facility.

Sustainability of WASH interventions ties in to goal 7 of the Millennium Development Goals developed by the United Nations Development Program, to ensure environmental sustainability. Specifically, it is to “reduce by half the proportion of the population without sustainable access to safe drinking water and basic sanitation” by 2015.

In addition to this issue, significant natural disasters such as hurricanes and tropical storms have the potential to completely destroy infrastructure. In 1998, Central America (El Salvador, Guatemala, Honduras, and Nicaragua) was struck by Hurricane Mitch. After the hurricane, the American Red Cross (ARC) responded to the disaster and provided community- and household-level WASH to hundreds of communities. What began as a disaster response/reconstruction program in 1998, has developed into a study of the long-term sustainability of WASH interventions.

This research will focus on assessing up to 16 communities that were provided WASH interventions by the ARC post-Hurricane Mitch. This survey will help to evaluate the key factors that help communities to maintain their infrastructure. The results will be used to improve ARC programs as well as to help guide other non-governmental agencies on how to best maximize their investments to ensure long-term community health.

This research includes four components which will be done in each community: (1) A community survey with community leaders and/or the local water board; (2) a cross-sectional quantitative household survey and qualitative key informant interview; (3) water sampling and analysis of community water sources/systems and stored household water; and (4) an infrastructure inspection of the community water system and sanitation facilities. United States Agency for International Development (USAID) indicators were used as the basis for measuring WASH interventions using performance indicators. Performance indicators are a way to measure the performance of disaster-related water and sanitation programs.

Four indicators will be used in this evaluation. To measure the water intervention we will estimate (1) the percent of households with access to an improved water source. The sanitation indicator measures (2) the percent of households with access to improved sanitation. Hygiene education is evaluated using two indicators, (3) the percent of households with appropriate hand washing behavior and (4) the percent of the population using hygienic sanitation facilities.

The sustainability evaluation will first conduct a face-to-face interview with the community leaders and/or members of the water board from a maximum of sixteen communities.

Second, a cross-sectional household survey (n=256) will be administered across all four countries with a randomly selected female head of household. This survey contains questions on water use, access and availability; sanitation access, use and maintenance; and hygiene education-when was the last time it was presented to the community, what topics were discussed, when was it provided and by whom. The household interview will record data using a personal data assistant (PDA), reviewed each day and then transferred into one electronic database for statistical analysis and calculation of the indicators. The survey will be done with the female head of household and take approximately 30 to 45 minutes.

Third, a qualitative key informant interview with randomly selected female head of household (n=32), will be conducted to gather study participants thoughts and opinions on the WASH services provided to them and their community. This survey will be administered verbally and responses will be tape recorded and should take approximately 45 minutes to 1 hour complete.

Every household surveyed in each country will include qualitative testing of drinking water that is stored in the home (n=288). Total coliforms and E. coli will be determined using a standard pre-measured Hach test kit. In addition, community water sources and water samples within the distribution system will be sampled (n=32). A total of 320 water samples will be completed. Additional testing will include measuring free chlorine in the community water system if chlorine is being used (n=16).

Lastly, an infrastructure evaluation for each community will be done by CDC personnel using a checklist. This evaluation will help to determine the strengths and weaknesses of the water and sanitation systems for each community.

The infrastructure survey and water sampling activity is not included in the burden table as CDC will complete this survey and activity independent of input or assistance from community leaders or study participants.

There is no cost to respondents to participate in the sustainability evaluation other than their time. The total estimated annual burden hours are 240.

Estimated Annualized Burden Hours
Type of respondent | Form name | Number of respondents | Number of responses per respondent | Average burden per response (in hours)
Community group-men and women | Community survey | 16 | 1 | 1
Female head of household | Quantitative household survey | 256 | 1 | 45/60
Female head of household | Key informant interview | 32 | 1 | 1

Dated: September 28, 2011.
Daniel Holcomb,
Reports Clearance Officer, Centers for Disease Control and Prevention.

[FR Doc. 2011-25495 Filed 10-3-11; 8:45 am]

BILLING CODE 4163-18-P